DEPARTMENT OF ENERGY

Federal Energy Regulatory Commission

[Docket No. RP03-608-000]

Williston Basin Interstate Pipeline Company; Notice of Tariff Filing

September 23, 2003.

Take notice that on September 16, 2003, Williston Basin Interstate Pipeline Company (Williston Basin) tendered for filing as part of its FERC Gas Tariff, Second Revised Volume No. 1, the tariff sheets listed on Appendix A to the filing, to become effective October 16, 2003.

Williston Basin states that the tariff sheets add a new provision to Section 10 of the General Terms and Conditions of its Tariff to permit Williston Basin, under certain conditions, to reserve capacity that is available for firm service for future expansion projects. The tariff sheets also reflect revisions to Subsections 10.2, 10.3, 10.3.2, and 10.4.2 of Section 10 and to Subsection 50.1 of Section 50 to enhance customer service, and to Subsections 50.3.3 and 50.3.4 to allow for these revisions operationally. The tariff sheets also add a provision to Rate Schedules IS-1 and FS-1 to allow for the recovery of the difference in the withdrawal rate between Rate Schedules IS-1 and FS-1 when gas held in storage is transferred from a Rate Schedule IS-1 shipper to a Rate Schedule FS-1 shipper.

Any person desiring to be heard or to protest said filing should file a motion to intervene or a protest with the Federal Energy Regulatory Commission, 888 First Street, NE., Washington, DC 20426, in accordance with Sections 385.214 or 385.211 of the Commission's Rules and Regulations. All such motions or protests must be filed in accordance with § 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “eLibrary”. Enter the docket number excluding the last three digits in the docket number field to access the document. For assistance, please contact FERC Online Support at FERCOnline Support@ferc.gov or toll-free at (866) 208-3676, or TTY, contact (202) 502-8659. The Commission strongly encourages electronic filings. See 18 CFR 385.2001(a)(1)(iii) and the instructions on the Commission's Web site under the “e-Filing” link.

Comment Date: September 29, 2003.

Magalie R. Salas,
Secretary.

[FR Doc. 03-24645 Filed 9-26-03; 8:45 am]

BILLING CODE 6717-01-P